DEPARTMENT OF AGRICULTURE

Office of the Under Secretary, Research, Education, and Economics; Notice of the Advisory Committee on Biotechnology and 21st Century Agriculture Meeting

AGENCY: Agricultural Research Service.

ACTION: Notice of meeting; correction.

SUMMARY: This document corrects a notice appearing in the Federal Register on June 2, 2003 (68 FR 32725), which announced the first meeting of the Advisory Committee on Biotechnology and 21st Century Agriculture. This action is necessary to correct erroneous dates listed for the meeting.

FOR FURTHER INFORMATION CONTACT: Michael Schechtman, Designated Federal Official, Office of the Deputy Secretary, USDA, 202B Jamie L. Whitten Federal Building, 12th and Independence Avenue, SW., Washington, DC 20250; Telephone (202) 720-3817; Fax (202) 690-4265; E-mail mschechtman@ars.usda.gov.

SUPPLEMENTARY INFORMATION: The announcement of the first meeting of the USDA Advisory Committee on Biotechnology and 21st Century Agriculture in the June 2, 2003 edition of the Federal Register incorrectly listed the dates for the meeting. The correct dates for the meeting are June 16-17, 2003, from 8:30 am to 5 pm each day. On June 16, 2003, if time permits, reasonable provision will be made for oral presentations of no more than five minutes each in duration from members of the public who wish to make statements. Individuals wishing to make such statements should also inform Dr. Schechtman in writing or via E-mail at the indicated addresses at least three business days before the meeting.

Michael G. Schechtman,
Designated Federal Official, Advisory Committee on Biotechnology and 21st Century Agriculture.

[FR Doc. 03-14226 Filed 6-2-03; 3:34 pm]

BILLING CODE 3410-03-P